DEPARTMENT OF STATE

[Public Notice 3865]

Culturally Significant Objects Imported for Exhibition Determinations: “Dreaming with Open Eyes: Dada and Surrealist Art From the Vera, Silvia, and Arturo Schwarz Collection in the Israel Museum”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “Dreaming with Open Eyes: Dada and Surrealist Art from the Vera, Silvia, and Arturo Schwarz Collection in the Israel Museum,” imported from abroad for temporary exhibition within the United States, are of cultural significance. The objects are imported pursuant to a loan agreement with the foreign owner. I also determine that the exhibition or display of the exhibit objects at the Fine Arts Museums of San Francisco, San Francisco, CA from on or about February 2, 2002 to on or about April 28, 2002, and at possible additional venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State, (telephone: 202/619-6981). The address is U.S. Department of State, SA-44, 301 4th Street, SW., Room 700, Washington, DC 20547-0001.

Dated: December 13, 2001.
Patricia S. Harrison,
Assistant Secretary for Educational and Cultural Affairs, United States Department of State.

[FR Doc. 01-32225 Filed 12-31-01; 8:45 am]

BILLING CODE 4710-08-P